FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than December 27, 2023.

A. Federal Reserve Bank of Kansas City (Jeffrey Imgarten, Assistant Vice President) 1 Memorial Drive, Kansas City, Missouri, 64198-0001. Comments can also be sent electronically to KCApplicationComments@kc.frb.org:

1. Jeff A. Berkley, Lawrence, Kansas, as co-trustee of the H.J. Berkley Trust U/A dated 05/06/69, Salina, Kansas, the Karla J. Spurgeon Trust II, the Karen M. Deckert Trust II, the Calvin J. Berkley Trust II, the Marika Spurgeon GP Trust, the Brenna Spurgeon GP Trust, the Patrick Spurgeon GP Trust, the Samuel Deckert GP Trust, the Lucas Deckert GP Trust, the Megan Berkley GP Trust, and the Collin Berkley GP Trust, all of Tescott, Kansas; Jonathan D. Berkley, Stockton, Kansas, as co-trustee of the H.J. Berkley Trust U/A dated 05/06/69, and the Robert B. Berkley Trust U/A dated 12/01/67, both of Salina, Kansas; the Don Berkley Trust No. 2, Don and Patricia Berkley, as co-trustees, all of Abilene, Kansas; the Jerry J. Berkley Trust No. 2, Eleanor A. Berkley and Bruce A. Berkley, as co-trustees, all of Downs, Kansas, and Cheryl L. Jamison, as co-trustee of the aforementioned trust, Emporia, Kansas; the Paul D. Berkley Trust No. 2, Bill Berkley, as co-trustee, both of Downs, Kansas, Brandon Berkley, Denver, Colorado, and Bradley Berkley, Dallas, Texas, as co-trustees of the aforementioned trust; the Robert B. Berkley Family Trust, Lila A. Berkley, as co-trustee, both of Salina, Kansas, Lila Jean Alexander, Houston, Texas, and John A. Berkley, Stockton, Kansas, as co-trustees of the aforementioned trust; the Hal J. Berkley Trust A and the Eleanor L. Berkley Trust, Hal J. Berkley and Eleanor L. Berkley, as co-trustees, all of Tescott, Kansas; the Karla J. Spurgeon Trust II, the Marika Spurgeon GP Trust, the Brenna Spurgeon GP Trust, and the Patrick Spurgeon GP Trust, Karen M. Deckert and Calvin J. Berkley, as co-trustees, all of Tescott, Kansas, and Jeff A. Berkley, as co-trustee; the Karen M. Deckert Trust II, the Samuel Deckert GP Trust, and the Lucas Deckert GP Trust, all of Tescott, Kansas, Karla J. Spurgeon, Lawrence, Kansas, Jeff A. Berkley, and Calvin J. Berkley, as co-trustees; the Jeff A. Berkley Trust II, the Rebekah Berkley GP Trust, and the Rachel Berkley GP Trust, all of Tescott, Kansas, Karla J. Spurgeon, Karen M. Deckert, and Calvin J. Berkley, as co-trustees; the Calvin J. Berkley Trust II, the Megan Berkley GP Trust, and the Collin Berkley GP Trust, all of Tescott, Kansas, Karla J. Spurgeon, Karen M. Deckert, and Jeff A. Berkley as co-trustees; the Paula C. Nelson Trust No. 2, Paula Nelson, as trustee, both of Tescott, Kansas; the Mary Beth Phelps Trust No. 2, Mary Beth Phelps, as trustee, both of Tescott, Kansas; the Mark A. Berkley Trust and the Jane B. Berkley Trust, Mark A. and Jane B. Berkley, as co-trustees, all of Leawood, Kansas; Elizabeth E. Berkley, Naples, Florida, as co-trustee of the Stuart C. Berkley Trust and the Melissa J. Berkley Trust, both of Leawood, Kansas; Stuart C. Berkley, Prairie Village, Kansas, as co-trustee of the Elizabeth E. Berkley Trust and the Melissa J. Berkley Trust, both of Leawood, Kansas; Melissa Ungashick, Overland Park, Kansas, as co-trustee of the Stuart C. Berkley Trust and the Elizabeth E. Berkley Trust; Earl H. Matthews and Burke L. Matthews, both of Salina, Kansas; to join the Berkley Family Group, a group acting in concert, to retain voting shares of Tescott Bancshares, Inc., and thereby indirectly retain voting shares of The Bank of Tescott, both of Tescott, Kansas.

Board of Governors of the Federal Reserve System.
Michele Taylor Fennell,
Deputy Associate Secretary of the Board.

[FR Doc. 2023-27237 Filed 12-11-23; 8:45 am]

BILLING CODE 6210-01-P